DEPARTMENT OF ENERGY

Federal Energy Regulatory Commission

[Docket No. SA00-1-000]

J. Dennis Corbin, Arlene E. Corbin, and the Estate of Mary Alice Corbin; Notice of Petition for Adjustment

July 17, 2000.

Take notice that on June 12, 2000, J. Dennis Corbin (filing on behalf of himself, Arlene E. Corbin, and the Estate of Mary Alice Corbin (collectively: Corbin) filed a petition for adjustment under section 502(c) of the Natural Gas Policy Act of 1978,¹ requesting to be relieved of its obligation to pay the interest on the Kansas ad valorem tax reimbursement refunds Corbin owes to Northern Natural Gas Company. Absent such relief, Corbin would be required to make such refunds under the Commission's September 10, 1997 order in Docket No. RP97-369-000 et al.² The Commission's September 10 order on remand from the D.C. Circuit Court of Appeals ³ directed first sellers under the NGPA to make Kansas ad valorem tax refunds, with interest, for the period from 1983 to 1988. The Corbin petition is on file with the Commission and open to public inspection.

¹ 15 U.S.C. 3142(c) (1982).

² See 80 FERC ¶ 61,264 (1997); order denying reh'g issued January 28, 1998, 82 FERC ¶ 61,058 (1998).

³ Public Service Company of Colorado v. FERC, 91 F.3d 1478 (D.C. 1996), cert. denied, Nos. 96-954 and 96-1230 (65 U.S.L.W. 3751 and 3754, May 12, 1997) (Public Service).

J. Dennis Corbin states that he and his wife (Arlene E. Corbin) never purchased any working interest in oil wells, or any other type of petroleum interest. Mr. Corbin further notes that, although he did inherit an interest in some Kansas oil properties from his father (F.J. Corbin), after his father and step-mother (Mary Alice Corbin) died in 1981, the wells involved were shut down approximately 10 to 11 years ago, and he believes that his father's estate was closed some time in 1983 or 1984. Accordingly, Mr. Corbin states that he does not understand how he and his wife could owe the refunds at issue, which pertain to certain Kansas wells operated by Burnett Corporation.

Mr. Corbin further acknowledges that he transferred one-half of his inherited interest in the Kansas oil properties to his wife. However, Mr. Corbin contends that, in view of the fact that his wife is presently responsible for caring for her 81-year-old blind mother, the burden imposed on his wife by the Commission's September 10 order is totally unjustified.

Any person desiring to be heard or to make any protest with reference to said petition should on or before 15 days after the date of publication in the Federal Register of this notice, file with the Federal Energy Regulatory Commission, Washington, D.C. 20426, a motion to intervene or a protest in accordance with the requirements of the Commission's Rules of Practice and Procedure (18 CFR 384.214, 385.211, 385.1105, and 385.1106). All protests filed with the Commission will be considered by it in determining the appropriate action to be taken but will not serve to make the protestants parties to the proceeding. Any person wishing to become a party to a proceeding or to participate as a party in any hearing therein must file a motion to intervene in accordance with the Commission's Rules.

David P. Boergers,
Secretary.

[FR Doc. 00-18477 Filed 7-20-00; 8:45 am]

BILLING CODE 6717-01-M